FEDERAL COMMUNICATIONS COMMISSION

47 CFR Part 76

[MB Docket No. 05-181; FCC 05-159]

Implementation of Section 210 of the Satellite Home Viewer Extension and Reauthorization Act of 2004 To Amend Section 338 of the Communications Act

AGENCY: Federal Communications Commission.

ACTION: Final rule; correction.

SUMMARY: The Federal Communications Commission is correcting a Final Rule summary that was published in the Federal Register on August 31, 2005 (70 FR 51658). In this document, the Commission corrects paragraph (c)(6) of the 47 CFR 76.66.

DATES: Effective September 30, 2005.

FOR FURTHER INFORMATION CONTACT: For additional information on this proceeding, contact Eloise Gore, Eloise.Gore@fcc.gov of the Media Bureau, Policy Division, (202) 418-2120.

SUPLEMENTARY INFORMATION: In FR Doc. 05-17324 published on August 31, 2005 (70 FR 51658), make the following correction.

1. On page 51668, in the third column, the last sentence of paragraph (c)(6) is corrected to read as follows:

A noncommercial television broadcast station located in a local market in Alaska or Hawaii must request carriage by October 1, 2005, for carriage of its signal that originates as an analog signal for carriage commencing on December 8, 2005, and by April 1, 2007, for its signal that originates as a digital signal for carriage commencing on June 8, 2007 and ending on December 31, 2008.

Federal Communications Commission.
Marlene Dortch,
Secretary.

[FR Doc. 05-17794 Filed 9-6-05; 8:45 am]

BILLING CODE 6712-01-P